CONSUMER PRODUCT SAFETY COMMISSION

[Docket No. CPSC-2009-0088]

Agency Information Collection Activities; Submission for OMB Review; Comment Request; Third Party Conformity Assessment Body Registration Form

AGENCY: Consumer Product Safety Commission.

ACTION: Notice.

SUMMARY: As required by the Paperwork Reduction Act of 1995, the Consumer Product Safety Commission (CPSC) announces that the CPSC has submitted to the Office of Management and Budget (OMB) a request for extension of approval of a collection of information under the requirements pertaining to the third party conformity assessment bodies registration form, approved previously under (OMB No. 3041-0143). In the Federal Register of September 6, 2019, the CPSC published a notice announcing the agency's intent to seek extension of approval of the collection of information. The Commission received no comments. Therefore, by publication of this notice, the CPSC announces that the agency has submitted to the OMB a request for extension of approval of that collection of information, without change.

DATES: Submit written comments on this request for extension of approval of information collection by December 16, 2019.

ADDRESSES: Submit comments about this request by email: OIRA_submission@omb.eop.gov or fax: 202-395-6881. Comments by mail should be sent to the Office of Information and Regulatory Affairs, Attn: OMB Desk Officer for the CPSC, Office of Management and Budget, Room 10235, 725 17th Street NW, Washington, DC 20503. In addition, written comments that are sent to OMB also should be submitted electronically at http://www.regulations.gov, under Docket No. CPSC-2009-0088.

FOR FURTHER INFORMATION CONTACT: Bretford J. Griffin, Consumer Product Safety Commission, 4330 East West Highway, Bethesda, MD 20814; (301) 504-7037, or by email to: bfriffin@cpsc.gov.

SUPPLEMENTARY INFORMATION: CPSC has submitted the following currently approved collection of information to OMB for extension:

Title: Requirements Pertaining to Third Party Conformity Assessment Bodies.

OMB Number: 3041-0143.

Type of Review: Renewal of collection.

Frequency of Response: On occasion.

Affected Public: Third party conformity assessment bodies seeking acceptance of accreditation or continuing accreditation.

General Description of Collection: The Consumer Product Safety Improvement Act of 2008 (CPSIA) requires certificates of conformity to be based in some cases on testing conducted by third party conformity assessment bodies. The CPSIA allows third party conformity assessment bodies to be accredited either by the Commission or by an independent accreditation organization designated by the Commission, and requires that the Commission maintain on its website an up-to-date list of entities that have been accredited to assess conformity with specific children's product safety rules. Except for firewalled third party conformity assessment bodies, the Commission has chosen to accept the accreditation of third party conformity assessment bodies that meet accreditation requirements of an independent accreditation organization.

To evaluate a third party conformity assessment body's qualifications for acceptance by CPSC, information related to location, accreditation, and ownership must be collected from third party conformity assessment bodies. The CPSC uses an online collection form, CPSC Form 223, to gather information from third party conformity assessment bodies who are voluntarily seeking acceptance by CPSC. The information collected relates to location, accreditation, and ownership. CPSC staff uses this information to assess:

• A third party conformity assessment body's status as an independent third party conformity assessment body, a government-owned or government-controlled conformity assessment body, or a firewalled conformity assessment body;

• Qualifications for acceptance by CPSC to test for compliance to specified children's product safety rules; and

• Eligibility for acceptance on the CPSC website.

Part 1112 requires the collection of information in CPSC Form 223:

• Upon initial application by a third party conformity assessment body for acceptance by CPSC;

• Whenever there is a change in accreditation or ownership information; and

• At least every 2 years, as part of a regular audit process.

Estimated Burden:

The CPSC estimates the burden of the collection of information in CPSC Form 223 is as follows:

Estimated Annual Reporting Burden
Activity | Number of respondents | Frequency of responses | Total annual responses | Hours per response | Total hours
Initial Registration | 40 | 1 | 40 | 1 | 40
Re-Registration | 291 | 1 | 291 | 1 | 291
Changes in Information | 6 | 1 | 6 | 0.25 | 1.5
Total |  |  |  |  | 332.5

These estimates are based on the following information:

• Based on applications received from FY 2013, to date, we estimate the number of third party conformity assessment bodies that would register initially each year for the next 3 years to be 40.

• Under 16 CFR part 1112, third party conformity assessment bodies are required to resubmit CPSC Form 223 every 2 years. Because all third party conformity assessment bodies have not submitted their first CPSC Form 223s at the same time, only about half would be expected to resubmit a CPSC Form 223 in any 1 year.

• As of August 2019, 581 third party conformity assessment bodies have registered with CPSC. Approximately half (291) of these firms would be required to re-register with CPSC each year.

• Under 16 CFR part 1112, third party conformity assessment bodies are required to ensure that the information submitted on CPSC Form 223 is current and must submit a new CPSC Form 223 whenever the information changes. Based on current experience with third party conformity assessment bodies, we estimate that two third party conformity assessment bodies will make revisions per year to update their information. A change in information is a change that does not require review of laboratory accreditation documents, such as scope or test methods. Examples of revised information include changes in the website URL, name of the laboratory, and name of point of contact.

• Therefore, the total burden is 332.5 hours, which we will round up to 333 hours. We estimate that hourly compensation for the time required for recordkeeping is $34.61 per hour (U.S. Bureau of Labor Statistics, “Employer Costs for Employee Compensation,” Table 9, total compensation for sales, office, and related workers in goods-producing industries, March 2019: https://www.bls.gov/ect/data.htm). The total cost burden to the respondents is approximately $11,525 ($34.61 × 333 hours = $11,525).

Alberta E. Mills,
Secretary, Consumer Product Safety Commission.

[FR Doc. 2019-24784 Filed 11-14-19; 8:45 am]

BILLING CODE 6355-01-P